DEPARTMENT OF AGRICULTURE

Submission for OMB Review; Comment Request

May 8, 2007.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Clementines, Mandarins, and Tangerines from Chile.

OMB Control Number: 0579-0242.

Summary of Collection: Under the Plant Protection Act (7 U.S.C. 7701-7772), the Secretary of Agriculture is authorized to carry out operations or measures to detect, eradicate, suppress, control, prevent, or retard the spread of plant pests new to the United States or not known to be widely distributed throughout the United States. The regulations in “Subpart—Fruits and Vegetables” (7 CFR 319.56 through 319.56-8) prohibit or restrict the importation of fruits and vegetables into the United States from certain parts of the world, to prevent the introduction and dissemination of plant pests, including fruit flies.

Need and Use of the Information: The Animal and Plant Health Inspection Service (APHIS) requires that some plants or plant products are accompanied by a phytosanitary inspection certificate that is completed by plant health officials in the originating or transiting country. APHIS will use the information on this certificate to determine the pest condition of the shipment at the time of inspection in the foreign country. Without the information, all shipments would need to be inspected very thoroughly, thereby requiring considerable more time, this would slow the clearance of international shipments.

Description of Respondents: Business or other for-profit.

Number of Respondents: 19.

Frequency of Responses: Reporting: On occasion.

Total Burden Hours: 147.

Animal and Plant Health Inspection Service

Title: Inspection, Licensing, and Procurement of Animals.

OMB Control Number: 0579-0254.

Summary of Collection: The Animal Welfare Act (AWA) (7 U.S.C. 2131 et seq.) authorizes the Secretary of Agriculture to promulgate standards and other requirements governing the humane handling, housing, care, treatment, and transportation of certain animals by dealers, research facilities, exhibitors, carriers, and intermediate handlers. The Animal and Plant Health Inspection Service (APHIS) has the responsibility to enforce the AWA and to regulate the humane care and handling of most warm-blooded animals used for research or exhibition purposes, sold as pets, or transported in commerce. APHIS will collect information using several forms.

Need and Use of the Information: APHIS will collect health certificates, program of veterinary care, application for license and record of acquisition, disposition and transportation of animals. The information is used to ensure those dealers, exhibitors, research facilities, carriers, etc., are in compliance with the Animal Welfare Act and regulations and standards promulgated under this authority of the Act.

Description of Respondents: Individuals or households.

Number of Respondents: 89.

Frequency of Responses: Recordkeeping; Reporting: On occasion.

Total Burden Hours: 41.

Ruth Brown,
Departmental Information Collection Clearance Officer.

[FR Doc. E7-9119 Filed 5-10-07; 8:45 am]

BILLING CODE 3410-34-P